DEPARTMENT OF STATE

[Public Notice 3484]

Culturally Significant Objects Imported for Exhibition Determinations: “The Draftsman's Art: Master Drawings From the National Gallery of Scotland”

Department: United States Department of State.

ACTION: Notice.

SUMMARY: Notice is hereby given of the following determinations: Pursuant to the authority vested in me by the Act of October 19, 1965 (79 Stat. 985, 22 U.S.C. 2459), the Foreign Affairs Reform and Restructuring Act of 1998 (112 Stat. 2681, et seq.), Delegation of Authority No. 234 of October 1, 1999, and Delegation of Authority No. 236 of October 19, 1999, as amended, I hereby determine that the objects to be included in the exhibition “The Draftsman's Art: Master Drawings from the National Gallery of Scotland” imported from abroad for the temporary exhibition without profit within the United States, are of cultural significance. These objects are imported pursuant to a loan agreement with a foreign lender. I also determine that the exhibition or display of the exhibit objects at The Frick Collection, New York, NY, from on or about December 11, 2000, through on or about February 25, 2001, and The Museum of Fine Arts, Houston, TX, from on or about March 16, 2001 through on or about June 10, 2001 is in the national interest. Public Notice of these Determinations is ordered to be published in the Federal Register.

FOR FURTHER INFORMATION CONTACT: For further information, including a list of exhibit objects, contact Jacqueline Caldwell, Attorney-Adviser, Office of the Legal Adviser, U.S. Department of State (telephone: 202/619-6982). The address is U.S. Department of State, SA-44, 301 4th Street, S.W., Room 700, Washington, D.C. 20547-0001.

Dated: November 22, 2000.
William B. Bader,
Assistant Secretary for Educational and Cultural Affairs, United States Department of State.

[FR Doc. 00-30555 Filed 11-29-00; 8:45 am]

BILLING CODE 4710-08-P